DEPARTMENT OF HEALTH AND HUMAN SERVICES

Administration for Children and Families

[OMB #: 0970-0554]

Expedited Office of Management and Budget Review and Public Comment: Placement and Transfer of Unaccompanied [Alien] Children Into ORR Care Provider Facilities

AGENCY: Office of Refugee Resettlement, Administration for Children and Families, U.S. Department of Health and Human Services.

ACTION: Request for public comments.

SUMMARY: The Office of Refugee Resettlement (ORR), Administration for Children and Families (ACF), U.S. Department of Health and Human Services, is requesting expedited review of an information collection request from the Office of Management and Budget (OMB) and inviting public comments on the proposed collection. This request will ensure that ORR can continue to properly enact its mandates and comply with all applicable authorities related to the placement of unaccompanied alien children into a restrictive placement.

DATES: Comments due December 1, 2025.

ADDRESSES: In compliance with the requirements of the Paperwork Reduction Act of 1995 (PRA), ACF is soliciting public comment on the specific aspects of the information collection described above. You can obtain copies of the proposed collection of information and submit comments by emailing infocollection@acf.hhs.gov. Identify all requests by the title of the information collection.

SUPPLEMENTARY INFORMATION:

Description: ACF is requesting that OMB grant a 180-day approval for this request under procedures for expedited processing (see 5 CFR 1320.13). In compliance with the PRA, ACF will request review under normal procedures within 180 days of the approval for this request. Any edits resulting from public comment will be incorporated into the submission under normal procedures.

ORR is proposing the below-listed changes to the Notice of Placement in a Restrictive Setting (Form P-4) and Unaccompanied [Alien] Child Referral (aka Intakes Placement Checklist) (Form P-7). The proposed changes are related to current administration priorities, to align the placement criteria in forms with the criteria found in 45 CFR 410.1105 and UAC Policy Guide sections 1.2.4 and 1.4.6 and to meet requirements in the Lucas R. Disabilities Settlement Agreement (Case No. 2:18-CV-05741 DMG PLA), and Flores litigation (Case No. CV85-4544-RJK (C.D. Cal. 1996)). Some of these are nonsubstantive in nature but are being submitted with the items that warrant emergency approval to ensure all updates are reviewed and approved and ready for use as soon as possible.

Global Terminology Updates

Update terminology to align with ORR regulations and to comply with Executive Order 14168 Defending Women from Gender Ideology Extremism and Restoring Biological Truth to the Federal Government, as well as other guidance from the current Administration.

Notice of Placement in a Restrictive Setting (Form P-4)

• Reorganize where some information/fields appear in the form for clarity.

• Add a “Disability Considerations” subsection in “Section B: Placement Information” to meet requirements found in the Lucas R. Disabilities Settlement Agreement.

• Remove “Section B: ORR's Determination Related to Safety” to align the form with ORR's regulation and policy guide.

• Update “Section C: Reasons for Restrictive Placement” to align the placement criteria in the form with ORR's regulation and policy guide and to comply with Flores litigation requirements.

• Add “Translation” subsection to “Section E: Acknowledgement and Certification” to help ORR monitor form compliance with translation requirements in its regulation.

Unaccompanied [Alien] Child Referral (aka Intakes Placement Checklist) (Form P-7)

ORR has two versions of Form P-7 approved under this information collection. The first version, titled Unaccompanied [Alien] Child Referral, was created for the UAC Path system, which was never implemented. The second version, titled Intakes Placement Checklist, is a PDF version that is currently in use. ORR is only proposing revisions to the PDF version of this form.

• Change form title from “Intakes Placement Checklist” to “Intakes Restrictive Placement Checklist” to better align the form's title with its purpose.

• Reorganize “Section B: Heightened Supervision Facility Criteria” and “Section C: Secure Facility Criteria” for clarity.

• Update criteria and supporting factors in Sections B and C to align with ORR's regulation and policy guide.

• Add follow-up questions in Sections B and C to document what information was relied on the make the placement determination and clarify whether each placement criterion was met.

• Reword field labels and add a field to document the reason for the recommended level of care in “Section D: Placement Determination”

Respondents: ORR grantee and contractor staff; unaccompanied alien children; and other federal agencies.

Annual Burden Estimates: These burden estimates include burden related to the revisions described above and currently approved forms for which we are not proposing any changes. ORR updated the burden hours for all forms to reflect a decrease in the number of children referred to ORR and a decrease in the number of care provider facilities. In the materials for submission to OMB, ORR also updated the estimated costs for all forms to reflect more recent wage data from the Bureau of Labor Statistics. Finally, ORR updated the average burden hours per response for the Notice of Placement in a Restrictive Setting (Form P-4) from 0.33 hours to 0.5 hours.

Information collection title | Annual number of respondents | Annual number of responses per respondent | Average burden hours per response | Annual total burden hours
Placement Authorization (Form P-1) | 220 | 446 | 0.08 | 7,850
Authorization for Medical, Dental, and Mental Health Care (Form P-2) | 220 | 446 | 0.08 | 7,850
Notice of Placement in a Restrictive Setting (Form P-4) | 6 | 83 | 0.50 | 249
Long Term Foster Care Placement Memo (Form P-5) | 115 | 7 | 0.25 | 201
Unaccompanied [Alien] Child Referral (aka Intakes Restrictive Placement Checklist) (Form P-7) | 40 | 2,394 | 1.00 | 95,760
Care Provider Checklist for Transfers to Influx Care Facilities (Form P-8) | 220 | 2 | 0.25 | 110
Medical Checklist for Non-Influx Transfers (Form P-9A) | 220 | 8 | 0.08 | 141
Medical Checklist for Transfers to Influx Care Facilities (Form P-9B) | 220 | 5 | 0.17 | 187
Transfer Request (Form P-10A)—Grantee Case Manager | 220 | 11 | 0.25 | 605
Transfer Request (Form P-10A)—Contractor Case Coordinator | 275 | 11 | 0.17 | 514
Placement Confirmation (Form P-10B)—Grantee Case Manager | 220 | 11 | 0.17 | 411
Placement Confirmation (Form P-10B)—Contractor Case Coordinator | 275 | 11 | 0.17 | 514
Transfer Summary and Tracking (Form P-11) | 220 | 11 | 0.17 | 411
Bed Configuration Module (Form P-12A) | 220 | 12 | 0.17 | 449
Bed Assignment and Capacity Overview Module (Form P-12B) | 220 | 435 | 0.17 | 16,269
Program Entity (Form P-12C) | 220 | 12 | 0.50 | 1,320
Unaccompanied [Alien] Child Profile (Form P-13) | 220 | 435 | 0.75 | 71,775
ORR Transfer Notification—ORR Notification to Immigration and Customs Enforcement Chief Counsel of Transfer of UC and Request to Change Address/Venue (Form P-14) | 220 | 11 | 0.17 | 411
Family Group Entity (Form P-15) | 40 | 75 | 0.08 | 240
Influx Transfer Manifest (Form P-16) | 3 | 12 | 0.33 | 12
Influx Transfer Manual and Prescreen Criteria Review (Form P-17) | 220 | 52,232 | 0.50 | 5,745,520
Notice of Administrative Review (Form P-18) | 200 | 1 | 0.83 | 166
Estimated Annual Burden Hours Total |  |  |  | 5,950,965

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; 45 CFR part 410; Flores v. Reno Settlement Agreement (No. CV85-4544-RJK (C.D. Cal. 1996)); Lucas R. et al. v. Becerra et al. Disabilities Settlement Agreement (Case No. CV 18-5741-DMG (PLAx))

Mary C. Jones,
ACF/OPRE Certifying Officer.

[FR Doc. 2025-18927 Filed 9-29-25; 8:45 am]

BILLING CODE 4184-45-P